DEPARTMENT OF THE INTERIOR

Bureau of Land Management

[LLCAD6000. L51010000. ER0000. LVRWB20B5120. 20XL1109AF; MO#4500145013]

Notice of Availability of the Crimson Solar Final Environmental Impact Statement and Proposed Land Use Plan Amendment, Riverside County, CA

AGENCY: Bureau of Land Management, Interior.

ACTION: Notice of availability.

SUMMARY: In accordance with the National Environmental Policy Act of 1969, as amended (NEPA), and the Federal Land Policy and Management Act of 1976, as amended, the Bureau of Land Management (BLM) has prepared a Final Environmental Impact Statement (EIS) and Proposed Land Use Plan Amendment to the California Desert Conservation Area (CDCA) Plan for the Crimson Solar Project, Riverside County, California, and by this notice is announcing its availability.

DATES: BLM planning regulations state that any person who meets the conditions as described in the regulations may protest the BLM's Proposed Land Use Plan Amendment. A person who meets the conditions and files a protest must do so within 30 days of the U.S. Environmental Protection Agency's (EPA) publication of its Notice of Availability in the Federal Register. The EPA published its Notice of Availability on February 12, 2021 (86 FR 9335).

ADDRESSES: You may review the Final EIS/Plan Amendment at https://go.usa.gov/xACdN. Instructions for filing a protest regarding the proposed Resource Management Plan Amendment are at: https://www.blm.gov/programs/planning-and-nepa/public-participation/filing-a-plan-protest and at 43 CFR 1610.5-2.

FOR FURTHER INFORMATION CONTACT: Miriam Liberatore, Project Manager, telephone 541-618-2200, email mliberat@blm.gov; mailing address Bureau of Land Management, 3040 Biddle Road, Medford, OR 97504. Persons who use a telecommunications device for the deaf (TDD) may call the Federal Relay Service (FRS) at 1-800-877-8339 to contact Ms. Liberatore during normal business hours. The FRS is available 24 hours a day, 7 days a week, to leave a message or question. You will receive a reply during normal business hours.

SUPPLEMENTARY INFORMATION: Sonoran West Solar Holdings LLC (the Applicant), a wholly owned subsidiary of Recurrent Energy LLC, applied for a right-of-way (ROW) grant for a photovoltaic solar project with the BLM. The applicant proposes to construct, operate, maintain, and decommission a maximum 350-megawatt solar photovoltaic facility with integrated battery storage and necessary ancillary facilities, including project substations, access roads, operations and maintenance buildings, and lay down areas. The Proposed Action includes 2,500 acres of BLM-administered land in Riverside County, California. The CDCA requires newly proposed utility sites not previously identified in the plan and proposed transmission lines outside designated utility corridors to be considered through a Plan Amendment. This decision therefore would amend the CDCA Plan to identify the Crimson Solar Project site as suitable for solar energy generation and to recognize the development of a high-voltage transmission line outside a designated corridor.

The BLM is the lead NEPA agency and will make Federal decisions regarding the proposed Plan Amendment and the ROW for the Project. The U.S. Fish and Wildlife Service is a Cooperating Agency and issued a Biological Opinion for the project on February 22, 2020. The U.S. EPA (Region 9) is a Cooperating Agency but does not have a direct permitting role in the project. The California Department of Fish and Wildlife (CDFW) is the lead agency under the California Environmental Quality Act and will decide whether to issue the applicant an Incidental Take Permit and/or a Lake and Streambed Alteration Agreement. The CDFW will release a Final Environmental Impact Report (EIR) independent of this EIS/Plan Amendment.

The Draft EIS/EIR/Plan Amendment was available for a 90-day public comment period on November 1, 2019 (84 FR 58738). The BLM held public meetings on December 2 and 3, 2019, in Palm Desert and Blythe, respectively. Twenty-one comments were received during the comment period. Responses to substantive comments are in Appendix W of the Final EIS/Plan Amendment (Responses to Comments). Public comments resulted in the addition of clarifying text but did not warrant changes to the analysis or conclusions.

In addition to the Proposed Action (Alternative A), the Final EIS/Plan Amendment considers a no action alternative and two action alternatives. Alternative B, Alternative Design, would include one or more of three design elements to reduce grading, trenching, and vegetation removal during construction. Alternative C, Reduced Acreage, would be the same as described under Alternative A in the number and size of project-related facilities and energy generation, but the project area would be reduced to 2,049 acres. All action alternatives would amend the CDCA plan to allow the project. The Agency Preferred Alternative combines Alternative B (reduced grading and reduced vegetation removal) and Alternative C (reduced acreage).

The BLM utilized and coordinated the NEPA process to help fulfill the public involvement process under the National Historic Preservation Act (54 U.S.C. 306108), as provided in 36 CFR 800.2(d)(3).

All protests must be in writing and submitted in accordance with the instructions outlined at: https://www.blm.gov/programs/planning-and-nepa/public-participation/filing-a-plan-protest and at 43 CFR 1610.5-2. A written decision will be rendered on each protest and mailed to each protesting party. This decision will be the final decision of the Department of the Interior on each protest. Responses to protest issues will be compiled in a Protest Resolution Report made available following issuance of the decisions. Upon resolution of all protests, a Record of Decision will be issued, which will include information on any further opportunities for public involvement.

Before including your phone number, email address, or other personal identifying information in your protest, you should be aware that your entire protest—including your personal identifying information—may be made publicly available at any time. While you can ask us to withhold your personal identifying information from public review, we cannot guarantee that we will be able to do so.

Authority: 40 CFR 1506.6; 40 CFR 1506.10; 43 CFR 1610.2; 43 CFR 1610.5; 42 U.S.C. 4370m-6(a)(1).

Karen E. Mouritsen,
BLM California State Director.

[FR Doc. 2021-03833 Filed 2-23-21; 8:45 am]

BILLING CODE 4310-40-P